DEPARTMENT OF ENERGY

Federal Energy Regulatory Commission

[Docket No. CP01-69-000]

Petal Gas Storage, L.L.C.; Notice of Application

January 30, 2001.

On January 23, 2001, Petal Gas Storage, L.L.C. (Petal), 1001 Louisiana Street, P.O. Box 2511, Houston, Texas 77002, filed in Docket No. CP01-69-000 an application pursuant to Section 7 of the Natural Gas Act (NGA) and Part 157 of the Commission's Rules and Regulations for a certificate of public convenience and necessity authorizing Petal to construct and operate transportation facilities in Mississippi having a capacity of 700,000 Mcf per day, to connect its existing storage complex with several interstate pipelines, all as more fully set forth in the application which is on file with the Commission and open to public inspection. The filing may be viewed at http://www.ferc.fed.us/online/rims.htm (call 202-208-2222 for assistance).

Specifically, Petal proposes to construct:

(a) 58.7 miles of new bi-directional 36-inch diameter pipeline extending from Petal's existing storage header in Forrest County, Mississippi through Jones and Jasper Counties, Mississippi and terminating at proposed interconnects with the interstate pipeline facilities of Southern Natural Gas Company (Southern Natural) and Destin Pipeline Company, L.L.C. (Destin) near Enterprise in Clarke County, Mississippi;

(b) a new 9,000 horsepower compressor station consisting of two gas driven compressor units near Heidelberg in Jasper County, Mississippi;

(c) 0.3 miles of new bi-directional 36-inch diameter pipeline extending from the proposed compressor station to a new interconnect with the interstate pipeline facilities of Transcontinental Gas Pipe Line Corporation (Transco) in Jasper County, Mississippi;

(d) new metering facilities at the proposed interconnects with Southern Natural Destin, and Transco;

(e) a bi-directional pig launcher/receiver trap adjacent to the proposed Destin Meter Station; and

(f) certain mainline block valves at six locations along the proposed pipeline.

Petal estimates that the proposed facilities will cost about $94,343,700.

Petal also requests that the Commission approve Petal's new firm and interruptible gas transportation services as set forth in Petal's pro forma Tariff Volume No. 1 filed in Exhibit P of the application, revisions to its existing tariff, and for authorization to charge negotiated rates for transportation services. Petal states that the pro forma tariff sheets (i) add Rate Schedule FTS, Rate Schedule ITS, and a Statement of Rates for Transportation Services; (ii) make conforming changes to Petal's General Terms and Conditions; (iii) update references to Petal to reflect its reorganization as a limited liability company; (iv) correct designations of certain tariff sheets that have been inappropriately designated as being in “Revised” Volume No. 1; and (v) conform Petal's tariff with the requirements of Order No. 637.

Petal states that it has entered into a 20-year firm transportation precedent agreement with Southern Company Services (Southern Company) for the full 700,000 Mcf per day of capacity and requests approval of certain deviations in the transportation agreement from its pro forma Form of Firm Transportation Service Agreement. Petal states that it intends to continue charging market based rates for its existing storage services and states that the new facilities and transportation services do not affect its market power status.

Finally, Petal requests that the Commission grant any waivers that the Commission may deem necessary to grant the relief and issue the certificate and approvals requested in the application including any waivers of tariff provisions deemed necessary to permit Southern Company, acting as agent for its affiliated operating electric utilities to apportion capacity among them.

Any questions regarding this application should be directed to Susan T. Halbach, Senior Counsel, P.O. Box 2511, Houston, Texas 77002.

There are two ways to become involved in the Commission's review of this project. First, any person wishing to obtain legal status by becoming a party to the proceedings for this project should, on or before February 20, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments and protests may be filed electronically via the internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

David P. Boergers,
Secretary.

[FR Doc. 01-2921 Filed 2-2-01; 8:45 am]

BILLING CODE 6717-01-M